DEPARTMENT OF TRANSPORTATION

Surface Transportation Board

Notice and Request for Comments

AGENCY: Surface Transportation Board, DOT.

ACTION: 30-day notice of intent to seek extension of approval: Waybill Compliance Survey.

SUMMARY: As part of its continuing effort to reduce paperwork burdens, and as required by the Paperwork Reduction Act of 1995, 44 U.S.C. 3501-3521 (PRA), the Surface Transportation Board (Board) gives notice that it is requesting from the Office of Management and Budget (OMB) approval for an extension of the Waybill Compliance Survey, which is further described below. The Board previously published a notice about this collection in the Federal Register. 80 FR 66,968 (Oct. 30, 2015). That notice allowed for a 60-day public review and comment period. No comments were received.

Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility.

Description of Collection

Title: Waybill Compliance Survey.

OMB Control Number: 2140-0010.

STB Form Number: None.

Type of Review: Extension without change.

Respondents: Regulated railroads that did not submit carload waybill sample information to the STB in the previous year.

Number of Respondents: 523.

Estimated Time per Response: .5 hours.

Frequency: Annually.

Total Burden Hours (annually including all respondents): 261.5.

Total “Non-hour Burden” Cost: None identified. This information may be submitted electronically to the Board (through its contractor).

Needs and Uses: Under the Interstate Commerce Act, as amended by the ICC Termination Act of 1995, Public Law 104-88, 109 Stat. 803 (1995), the Board is responsible for the economic regulation of common carrier rail transportation, including the collection and administration of the Carload Waybill Sample. The information in the Waybill Sample is used to monitor traffic flows and rate trends in the industry. Under 49 CFR 1244, a railroad terminating 4,500 or more carloads, or terminating at least 5% of the total revenue carloads that terminate in a particular state, in any of the three preceding years is required to file carload waybill sample information (Waybill Sample) for all line-haul revenue waybills terminating on its lines. (The Waybill Sample collection is approved under OMB Control Number 2140-0015, which expires on June 30, 2017.)

In order to determine whether any of the surveyed railroads should be filing a Waybill Sample, the Board needs to collect the information in the Waybill Compliance Survey—information on the number of carloads of traffic terminated each year by U.S. railroads—from railroads that are not filing a Waybill Sample. The Board has authority to collect this information under 49 U.S.C. 11144-45, and under 49 CFR 1244.2.

DATES: Comments on this information collection should be submitted by February 8, 2016.

ADDRESSES: Written comments should be identified as “Paperwork Reduction Act Comments, Surface Transportation Board, Annual Waybill Compliance Survey.” These comments should be directed to the Office of Management and Budget, Office of Information and Regulatory Affairs, Attention: Chandana L. Achanta, Surface Transportation Board Desk Officer, by email at OIRA_SUBMISSION@OMB.EOP.GOV; by fax at (202) 395-6974; or by mail to Room 10235, 725 17th Street NW., Washington, DC 20503.

FOR FURTHER INFORMATION CONTACT: For further information regarding the “Annual Waybill Compliance Survey,” contact Pedro Ramirez at (202) 245-0333 or at pedro.ramirez@stb.dot.gov. [Assistance for the hearing impaired is available through the Federal Information Relay Service (FIRS) at 1-800-877-8339.]

SUPPLEMENTARY INFORMATION: Under the PRA, a federal agency that conducts or sponsors a collection of information must display a currently valid OMB control number. A collection of information, which is defined in 44 U.S.C. 3502(3) and 5 CFR 1320.3(c), includes agency requirements that persons submit reports, keep records, or provide information to the agency, third parties, or the public. Under § 3507(b) of the PRA, federal agencies are required to provide, prior to an agency's submitting a collection to OMB for approval, a 30-day notice and comment period through publication in the Federal Register concerning each proposed collection of information, including each proposed extension of an existing collection of information.

Dated: January 5, 2016.
Jeffrey Herzig,
Clearance Clerk.

[FR Doc. 2016-00174 Filed 1-7-16; 8:45 am]

BILLING CODE 4915-01-P